DEPARTMENT OF AGRICULTURE

Rural Housing Service

[Docket No.: RHS-24-MFH-0010]

Notice of Solicitation of Applications for Section 514 Off-Farm Labor Housing Loans and Section 516 Off-Farm Labor Housing Grants for New Construction for Fiscal Year 2024; Correction

AGENCY: Rural Housing Service, USDA.

ACTION: Notice of solicitation of applications (NOSA); correction.

SUMMARY: The Rural Housing Service (RHS or Agency), a Rural Development (RD) agency of the United States Department of Agriculture (USDA), is correcting a notice of solicitation of applications (NOSA) that published in the Federal Register on April 19, 2024, entitled, “Notice of Solicitation of Applications for Section 514 Off-Farm Labor Housing Loans and Section 516 Off-Farm Labor Housing Grants for New Construction for Fiscal Year 2024.” The notice described the methods used to distribute funds, the pre-application and final application process, and submission requirements. The purpose of this document is to correct the inadvertent errors to the commitment letter requirements published in the Federal Register on April 19, 2024.

DATES: May 9, 2024.

FOR FURTHER INFORMATION CONTACT: Jonathan Bell, Branch Director, Processing and Report Review Branch, Production and Preservation Division, Multifamily Housing Programs, Rural Development, United States Department of Agriculture, via email: MFHprocessing1@usda.gov or telephone: (202) 205-9217.

SUPPLEMENTARY INFORMATION:

Correction

In the Federal Register of April 19, 2024, in FR Doc. 2024-08155 (89 FR 28717), on page 28725, in the first column in the first paragraph (ii), correct the paragraph to read:

ii. All applications that propose the use of any leveraged funds should submit commitment letters with their application, if available. If the applicant is unable to secure third-party firm commitment letters within the twelve-month time frame, as specified in the award commitment, the application will be deemed incomplete, the award letter will be considered null and void, and the applicant will be notified in writing that the application will be rejected.

Joaquin Altoro,
Administrator, Rural Housing Service.

[FR Doc. 2024-10173 Filed 5-8-24; 8:45 am]

BILLING CODE 3410-XV-P